DEPARTMENT OF ENERGY

Federal Energy Regulatory Commission

[Docket No. EG01-182-000, et al.]

Tanir Bavi Power Company Ltd., et al.; Electric Rate and Corporate Regulation Filings

May 25, 2001.

Take notice that the following filings have been made with the Commission:

1. Tanir Bavi Power Company Private Ltd.

[Docket No. EG01-182-000]

Take notice that on May 23, 2001, Tanir Bavi Power Company Private Ltd. (Tanir Bavi), with its principal office at principal office at Skip House, 25/1, Museum Road, Bangalore, 56 0025, filed with the Federal Energy Regulatory Commission (Commission) an amendment to its April 4, 2001 application for determination of exempt wholesale generator status pursuant to Part 365 of the Commission's regulations.

Tanir Bavi is a company organized under the laws of India. Tanir Bavi will be engaged, directly or indirectly through an affiliate as defined in Section 2(a)(11)(B) of the Public Utility Holding Company Act of 1935, exclusively in owning, or both owning and operating an electric generating facility consisting of a 220 MW Power Plant in Mangalore, State of Karnataka in India; selling electric energy at wholesale and engaging in project development activities with respect thereto.

Comment date: June 15, 2001, in accordance with Standard Paragraph E at the end of this notice. The Commission will limit its consideration of comments to those that concern the adequacy or accuracy of the application.

2. Allegheny Energy Service Corporation on Behalf of Allegheny Energy Supply, Lincoln Generating Facility, LLC

[Docket No. ER01-2092-000]

Take notice that on May 22, 2001, Allegheny Energy Service Corporation on behalf of Allegheny Energy Supply Lincoln Generating Facility, LLC (Allegheny Energy Supply—Lincoln) tendered for filing Service Agreement No. 2 to add one (1) new Customer to the Market Rate Tariff under which Allegheny Energy Supply—Lincoln offers generation services. Allegheny Energy Supply—Lincoln requests a waiver of notice requirements to make service available as of May 4, 2001 to Commonwealth Edison Company. Confidential treatment of provisions of Service Agreement No. 2 has been requested.

Copies of the filing have been provided to the Public Utilities Commission of Ohio, the Pennsylvania Public Utility Commission, the Maryland Public Service Commission, the Virginia State Corporation Commission, the West Virginia Public Service Commission, and all parties of record.

Comment date: June 12, 2001, in accordance with Standard Paragraph E at the end of this notice.

3. Golden Spread Electric Cooperative, Inc.

[Docket No. ER01-2096-000]

Take notice that on May 22, 2001, Golden Spread Electric Cooperative, Inc. (Golden Spread) tendered for filing amendments to its rate schedules for service to its eleven member cooperatives.

Golden Spread requests waiver of the Commission's prior notice regulations such that the amendments may become effective on July 1, 2001.

A copy of this filing has been served upon all of Golden Spread's members.

Comment date: June 12, 2001, in accordance with Standard Paragraph E at the end of this notice.

4. Great Bay Power Corporation

[Docket No. ER01-1960-001]

Take notice that on May 22, 2001, Great Bay Power Corporation (Great Bay) tendered for filing an amendment to its May 3, 2001 filing with a revised service agreement for Burlington Electric Department under Great Bay's FERC Electric Tariff No. 2, Second Revised Volume No. 2. The revised service agreement is proposed to be effective April 9, 2001.

Comment date: June 12, 2001, in accordance with Standard Paragraph E at the end of this notice.

5. Portland General Electric Company

[Docket No. ER01-2097-000]

Take notice that on May 22, 2001, Portland General Electric Company (PGE) tendered for filing revised tariff sheets to its market-based rate tariff (Fifth Revised Volume No. 11) in the above-referenced proceeding. These revised tariff sheets are intended to permit PGE to engage in market-based transactions with Enron Power Marketing Inc., an affiliate of PGE, through the EnronOnline Platform while retaining the protections against affiliate abuse that are contained in PGE's Tariff.

Comment date: June 12, 2001, in accordance with Standard Paragraph E at the end of this notice.

6. American Transmission Company LLC

[Docket No. ER01-2098-000]

Take notice that on May 22, 2001, American Transmission Company LLC (ATCLLC) tendered for filing a Firm Point-to-Point Service Agreement and a Non-Firm Point-to-Point Service Agreement with Southern Minnesota Municipal Power Agency. ATCLLC requests an effective date of March 18, 2001.

Comment date: June 12, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-13881 Filed 6-1-01; 8:45 am]

BILLING CODE 6717-01-P